Proclamation 8529 of May 28, 2010

Lesbian, Gay, Bisexual, and Transgender Pride Month, 2010

By the President of the United States of America

A Proclamation

As Americans, it is our birthright that all people are created equal and deserve the same rights, privileges, and opportunities. Since our earliest days of independence, our Nation has striven to fulfill that promise. An important chapter in our great, unfinished story is the movement for fairness and equality on behalf of the lesbian, gay, bisexual, and transgender (LGBT) community. This month, as we recognize the immeasurable contributions of LGBT Americans, we renew our commitment to the struggle for equal rights for LGBT Americans and to ending prejudice and injustice wherever it exists.

LGBT Americans have enriched and strengthened the fabric of our national life. From business leaders and professors to athletes and first responders, LGBT individuals have achieved success and prominence in every discipline. They are our mothers and fathers, our sons and daughters, and our friends and neighbors. Across my Administration, openly LGBT employees are serving at every level. Thanks to those who came before us—the brave men and women who marched, stood up to injustice, and brought change through acts of compassion or defiance—we have made enormous progress and continue to strive for a more perfect union.

My Administration has advanced our journey by signing into law the Matthew Shepard and James Byrd, Jr., Hate Crimes Prevention Act, which strengthens Federal protections against crimes based on gender identity or sexual orientation. We renewed the Ryan White CARE Act, which provides life-saving medical services and support to Americans living with HIV/AIDS, and finally eliminated the HIV entry ban. I also signed a Presidential Memorandum directing hospitals receiving Medicare and Medicaid funds to give LGBT patients the compassion and security they deserve in their time of need, including the ability to choose someone other than an immediate family member to visit them and make medical decisions.

In other areas, the Department of Housing and Urban Development (HUD) announced a series of proposals to ensure core housing programs are open to everyone, regardless of sexual orientation or gender identity. HUD also announced the first-ever national study of discrimination against members of the LGBT community in the rental and sale of housing. Additionally, the Department of Health and Human Services has created a National Resource Center for LGBT Elders.

Much work remains to fulfill our Nation’s promise of equal justice under law for LGBT Americans. That is why we must give committed gay couples the same rights and responsibilities afforded to any married couple, and repeal the Defense of Marriage Act. We must protect the rights of LGBT families by securing their adoption rights, ending employment discrimination against LGBT Americans, and ensuring Federal employees receive equal benefits. We must create safer schools so all our children may learn in a supportive environment. I am also committed to ending “Don’t Ask, Don’t Tell” so patriotic LGBT Americans can serve openly in our military, and I am working with the Congress and our military leadership to accomplish that goal.

As we honor the LGBT Americans who have given so much to our Nation, let us remember that if one of us is unable to realize full equality, we all fall short of our founding principles. Our Nation draws its strength from our diversity, with each of us contributing to the greater whole. By affirming these rights and values, each American benefits from the further advancement of liberty and justice for all.

NOW, THEREFORE, I, BARACK OBAMA, President of the United States of America, by virtue of the authority vested in me by the Constitution and the laws of the United States, do hereby proclaim June 2010 as Lesbian, Gay, Bisexual, and Transgender Pride Month. I call upon all Americans to observe this month by fighting prejudice and discrimination in their own lives and everywhere it exists.

IN WITNESS WHEREOF, I have hereunto set my hand this twenty-eighth day of May, in the year of our Lord two thousand ten, and of the Independence of the United States of America the two hundred and thirty-fourth.

[FR Doc. 2010-13672

Filed 6-4-10; 8:45 am]

Billing code 3195-W0-P